DEPARTMENT OF DEFENSE

Office of the Secretary

[Docket ID DOD-2009-OS-0071]

Privacy Act of 1974; Systems of Records

AGENCY: Defense Finance and Accounting Service, DoD.

ACTION: Notice to Add a New System of Records.

SUMMARY: The Defense Finance and Accounting Service (DFAS) is proposing to add a system of records notice to its inventory of record systems subject to the Privacy Act of 1974, (5 U.S.C. 552a), as amended.

DATES: This Action will be effective without further notice on June 29, 2009 unless comments are received that would result in a contrary determination.

ADDRESSES: Send comments to the FOIA/PA Program Manager, Corporate Communications and Legislative Liaison, Defense Finance and Accounting Service, 8899 East 56th Street, Indianapolis, IN 46249-0150.

FOR FURTHER INFORMATION CONTACT: Ms. Linda Krabbenhoft at (720) 242-6631.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on May 20, 2009, to the House Committee on Government Reform, the Senate Committee on Governmental Affairs, and the Office of Management and Budget (OMB) pursuant to paragraph 4c of Appendix I to OMB Circular No. A-130, `Federal Agency Responsibilities for Maintaining Records about Individuals,' dated December 12, 2000, 65 FR 239.

Dated: May 20, 2009.
Morgan E. Frazier,
Alternate OSD Federal Register Liaison Officer, Department of Defense.

T5500c

System name:

Law Office Management System

System location:

Defense Finance and Accounting Service (DFAS), Office of General Counsel, Indianapolis, 8899 E. 56th Street, Indianapolis, IN 46249-0160.

Categories of individuals covered by the system:

Active Duty, Reserve, Guard, retired, separated military members including their dependents, spouses, ex-spouses, annuitants, legal guardians, current, retired or separated DoD civilian employees, non-DoD civilian employees paid by DFAS.

Categories of records in the system:

Individual's name, Social Security Number (SSN), or other personal identifier, home address, home or office telephone numbers, pay and personnel information, dependent or annuitant information, marital status, birth date, employment information, personal e-mail addresses, business e-mail addresses, tax information, personal letters, memorandums, legal opinions, pleading, and miscellaneous documents related to judicial or administrative proceedings or benefit/pay inquiries, and all other information necessary to provide advice and assistance to personnel seeking legal assistance.

Authority for maintenance of system:

5 U.S.C 301, Departmental Regulations, Department of Defense Directive (DoDD) 5145.01, General Counsel of the Department of Defense, and E.O. 9397 (SSN).

Purpose(s):

The system will be used as a repository for opinions issued and researched by the Office of General Counsel. In addition, it will facilitate the recording, processing, management, and tracking of all requests for legal assistance related to personnel, military and civilian pay, and commercial pay issues. The system will also maintain a record of the Office of General Counsel replies to each request or inquiry.

Routine uses of records maintained in the system, including categories of users and the purposes of such uses:

In addition to those disclosures generally permitted under 5 U.S.C. 552a (b) of the Privacy Act of 1974, these records contained therein may specifically be disclosed outside the DoD as a routine use pursuant to 5 U.S.C. 552a (b)(3) as follows:

The DoD “Blanket Routine Uses” set forth at the beginning of the DFAS compilation of system of records notices apply to this system of records.

Policies and practices for storing, retrieving, accessing, retaining, and disposing of records in the system.

Storage:

Electronic storage media and paper records in file folders.

Retrievability:

Name and Social Security Number (SSN).

Safeguards:

Records are stored in a building protected by guards, with controlled screening, use of visitor registers, electronic access, and/or locks. Access is limited to individuals who are properly screened and cleared on a need to know basis in the performance of their duties. User IDs and passwords are used to control access to the system data, and procedures are in place to deter and detect browsing and unauthorized access.

Retention and disposal:

Records may be temporary in nature and destroyed when actions are completed, superseded, obsolete, or no longer needed. Other records will be destroyed 6 years and 3 months after the case has closed. Records are destroyed by degaussing, burning or shredding.

System manager(s) and address:

Defense Finance and Accounting Service, Office of General Counsel, General Counsel, 8899 East 56th Street, Indianapolis, Indiana 46249-0160.

Notification procedure:

Individuals seeking to determine whether information about themselves is contained in this record system should address written inquiries to the Defense Finance and Accounting Service, Freedom of Information/Privacy Act Program Manager, Corporate Communications and Legislative Liaison, 8899 E. 56th Street, Indianapolis, IN 46249-0150.

Individuals should furnish full name, Social Security Number (SSN), current address, and telephone number.

Record access procedures:

Individuals seeking access to information about themselves contained in this system should address written inquiries to Defense Finance and Accounting Service, Freedom of Information/Privacy Act Program Manager, Corporate Communications and Legislative Liaison, 8899 E. 56th Street, Indianapolis, IN 46249-0150.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

Record source categories:

The individual, DoD Components, such as the Army, Navy, Air Force and Marine Corps; Federal, State or Local government agencies.

Exemptions claimed for the system:

None.

[FR Doc. E9-12502 Filed 5-28-09; 8:45 am]

BILLING CODE 5001-06-P